PENSION BENEFIT GUARANTY CORPORATION

Proposed Submission of Information Collection for OMB Review; Comment Request; Qualified Domestic Relations Orders Submitted to the PBGC

AGENCY: Pension Benefit Guaranty Corporation.

ACTION: Notice of intention to request OMB approval of revisions to, and extension of, a currently approved information collection.

SUMMARY: The Pension Benefit Guaranty Corporation (“PBGC”) intends to request that the Office of Management and Budget (“OMB”) approve, under the Paperwork Reduction Act, revisions to an information collection (OMB control number 1212-0054; expires December 31, 2006) relating to model forms contained in the PBGC booklet, Divorce Orders & PBGC. (The PBGC is changing the title of the booklet to Qualified Domestic Relations Orders & PBGC.) In addition, the PBGC is requesting 3-year approval of the revised collection of information. The booklet provides guidance on how to submit a proper qualified domestic relations order (a “QDRO”) to the PBGC. The revisions reflect changes in how the PBGC pays benefits. This notice informs the public of the PBGC's intent and solicits public comment on the collection of information.

DATES: Comments must be submitted by December 16, 2005.

ADDRESSES: Comments may be mailed to the Legislative and Regulatory Department, Pension Benefit Guaranty Corporation, 1200 K Street, NW., Washington, DC 20005-4026, or delivered to Suite 340 at that address during normal business hours. Comments also may be submitted by e-mail to paperwork.comments@pbgc.gov, or by fax to 202-326-4112. The PBGC will make all comments available on its Web site at http://www.pbgc.gov.

Copies of the collections of information may be obtained without charge by writing to the PBGC's Communications and Public Affairs Department at Suite 240 at the above address or by visiting that office or calling 202-326-4040 during normal business hours. (TTY and TDD users may call the Federal relay service toll-free at 1-800-877-8339 and ask to be connected to 202-326-4040.) The reportable events regulations, forms, and instructions may be accessed on the PBGC's Web site at http://www.pbgc.gov.

FOR FURTHER INFORMATION CONTACT: James L. Beller, Jr., Attorney, Legislative and Regulatory Department, Pension Benefit Guaranty Corporation, 1200 K Street, NW., Washington, DC 20005-4026, 202-326-4024. (For TTY/TDD users, call the Federal relay service toll-free at 1-800-877-8339 and ask to be connected to 202-326-4024.)

SUPPLEMENTARY INFORMATION: The PBGC intends to request paperwork approval relating to model forms contained in the PBGC booklet, Divorce Orders & PBGC. Although the collection of information has been approved by OMB under control number 1212-0054 through December 31, 2006, the PBGC is revising the model QDRO forms and accompanying guidance to reflect changes in how it pays benefits. In addition, the PBGC is changing the title of the booklet to Qualified Domestic Relations Orders & PBGC and requesting 3-year approval of the revised QDRO forms and accompanying guidance. An agency may not conduct or sponsor, and a person is not required to respond to, a collection of information unless it displays a currently valid OMB control number.

A defined benefit pension plan that does not have enough money to pay benefits may be terminated if the employer responsible for the plan faces severe financial difficulty, such as bankruptcy, and is unable to maintain the plan. In such an event, the PBGC becomes trustee of the plan and pays benefits, subject to legal limits, to plan participants and beneficiaries.

The benefits of a pension plan participant generally may not be assigned or alienated. Title I of ERISA provides an exception for domestic relations orders that relate to child support, alimony payments, or marital property rights of an alternate payee (a spouse, former spouse, child, or other dependent of a plan participant). The exception applies only if the domestic relations order meets specific legal requirements that make it a qualified domestic relations order.

When the PBGC is trustee of a plan, it reviews submitted domestic relations orders to determine whether the order is qualified before paying benefits to an alternate payee. The requirements for submitting a QDRO are established by statute. The models and the guidance assist parties by making it easier to comply with ERISA's QDRO requirements in plans trusteed by the PBGC; they do not create any additional requirements and result in a reduction of the statutory burden.

In April of 2002, the PBGC revised its regulations to make several changes in how it pays benefits, including giving participants more choices of annuity benefit forms, clarifying (for certain purposes under Title IV of ERISA) what it means to be able to “retire” under plan provisions, and adding rules on who will get certain payments the PBGC owes to a participant at the time of death. See 67 FR 16950, April 8, 2002. Many of these changes may affect qualified domestic relations orders submitted to the PBGC and, therefore, necessitate a number of revisions to the model QDROs and accompanying guidance.

The PBGC estimates that it will receive 875 QDROs each year from prospective alternate payees; that the average burden of preparing a QDRO with the assistance of the guidance and model QDROs in PBGC's booklet will be ¼ hour of the alternate payee's time and $734 in professional fees if the alternate payee hires an attorney or other professional to prepare the QDRO, or 10 hours of the alternate payee's time if the alternate payee prepares the QDRO without hiring an attorney or other professional; and that the total annual burden will be 1067 hours and $578,600.

The PBGC is soliciting public comments to—

• Evaluate whether the proposed collections of information are necessary for the proper performance of the functions of the agency, including whether the information will have practical utility;

• Evaluate the accuracy of the agency's estimate of the burden of the proposed collections of information, including the validity of the methodologies and assumptions used;

• Enhance the quality, utility, and clarity of the information to be collected; and

• Minimize the burden of the collections of information on those who are to respond, including through the use of appropriate automated, electronic, mechanical, or other technological collection techniques or other forms of information technology, e.g., permitting electronic submission of responses.

Issued in Washington, DC, this 12th day of October, 2005.
Rick Hartt,
Chief Technology Officer, Pension Benefit Guaranty Corporation.

[FR Doc. 05-20703 Filed 10-14-05; 8:45 am]

BILLING CODE 7708-01-P